DEPARTMENT OF ENERGY

[FE Docket Nos. 05-51-NG, 05-52-NG, 05-42-NG, 05-46-NG, 05-53-LNG, 05-47-NG, 97-03-NG, 97-48-NG, 97-36-NG, 96-52-NG, 95-104-NG, 97-37-NG, 96-50-NG, 04-06-NG, 05-54-NG, 05-55-NG, 05-45-LNG, 05-56-NG, 03-70-NG, 04-04-LNG, 05-42-NG]

Office of Fossil Energy; ConocoPhillips Energy Marketing Corp., OXY Energy Canada, LC, Calpine Energy Services, L.P., ECOGAS Mexico, Kinetic LNG, Pacific Summit Energy LLC, Engage Energy America L.L.C., Engage Energy America L.L.C., Engage Energy America L.L.C., Engage Energy America L.L.C., Engage Energy America L.L.C., Engage Energy America L.L.C., Coastal Gas Marketing Company, Chevron U.S.A. Inc., Ontario Energy Savings L.P., Eagle Energy Marketing Canada L.P., Excelerate Gas Marketing, LLC, ONEOK Energy Services Company, L.P., Ontario Energy Savings Corp., Excelerate Energy L.P., Calpine Energy Services, L.P.; Orders Granting Authority To Import and Export Natural Gas, Including the Import of Liquefied Natural Gas

AGENCY: Office of Fossil Energy, DOE.

ACTION: Notice of orders.

SUMMARY: The Office of Fossil Energy (FE) of the Department of Energy gives notice that during July 2005, it issued Orders granting and vacating authority to import and export natural gas, including the import of liquefied natural gas. These Orders are summarized in the attached appendix and may be found on the FE Web site at http://www.fe.doe.gov (select gas regulation). They are also available for inspection and copying in the Office of Natural Gas Regulatory Activities, Docket Room 3E-033, Forrestal Building, 1000 Independence Avenue, SW., Washington, DC 20585, (202) 586-9478. The Docket Room is open between the hours of 8 a.m. and 4:30 p.m., Monday through Friday, except Federal holidays.

Issued in Washington, DC, on August 5, 2005.
R. F. Corbin,
Manager, Natural Gas Regulatory Activities, Office of Oil and as Global Security and Supply, Office of Fossil Energy.

Appendix—Orders Granting Import/Export Authorizations DOE/FE Authority

Order No. | Date issued | Importer/exporter FE docket no. | Import volume | Export volume | Comments
2108 | 7-12-05 | ConocoPhillipsEnergy Marketing Corp. 05-51-NG | 200 Bcf |  | Import and export a combined total of natural gas from and to Canada, beginning on July 12, 2005, and extending through July 11, 2007.
2109 | 7-14-05 | OXY Energy Canada, LLC 05-52-NG | 400 Bcf |  | Import and export a combined total of natural gas from and to Canada, beginning on September 1, 2005, and extending through August 31, 2007.
2110 | 7-20-05 | Calpine Energy Services, L.P. 05-42-NG | 300 Bcf |  | Import and export a combined total of natural gas from and to Canada and Mexico, beginning on July 1, 2005, and extending through June 30, 2007.
2111 | 7-20-05 | ECOGAS Mexico 05-46-NG | 19 Bcf | 19 Bcf | Import natural gas from Canada, and export natural gas to Mexico, beginning on July 20, 2005, and extending through July 19, 2007.
2112 | 7-20-05 | Kinetic LNG 05-53-LNG | 200 Bcf |  | Import LNG from other international sources, beginning on September 1, 2005, and extending through August 31, 2007.
2113 | 7-20-05 | Pacific Summit Energy LLC 05-47-NG | 24 Bcf |  | Import and export a combined total of natural gas from and to Canada, beginning on August 1, 2005, and extending through July 31, 2007.
1253-D | 7-20-05 | Engage Energy America L.L.C. 97-03-NG |  |  | Vacate long-term import authority.
1332-D | 7-20-05 | Engage Energy America L.L.C. 97-48-NG |  |  | Vacate long-term import authority.
1275-D | 7-20-05 | Engage Energy America L.L.C. 97-36-NG |  |  | Vacate long-term import authority.
1202-D | 7-20-05 | Engage Energy America L.L.C. 96-52-NG |  |  | Vacate long-term import authority.
1228-D | 7-20-05 | Engage Energy America L.L.C. 97-03-NG |  |  | Vacate long-term import authority.
1282-D | 7-20-05 | Engage Energy America L.L.C. 97-03-NG |  |  | Vacate long-term import authority.
1201-A | 7-20-05 | Coastal Gas Marketing Company 96-50-NG |  |  | Vacate long-term import authority.
1938-A | 7-20-05 | Chevron U.S.A. Inc. 04-06-NG |  |  | Vacate blanket export authority.
2114 | 7-29-05 | Ontario Energy Savings L.P. 05-54-NG | 200 Bcf | 200 Bcf | Import and export natural gas from and to Canada, beginning on August 1, 2005, and extending through July 31, 2007.
2115 | 7-29-05 | Eagle Energy Marketing Canada, L.P. 05-55-NG | 70.6 Bcf | 70.6 Bcf | Import and export natural gas from and to Canada, beginning on May 1, 2005, and extending through April 30, 2007.
2116 | 7-29-05 | Excelerate Gas Marketing, LLC 05-45-LNG | 400 Bcf |  | Import LNG from various international sources, beginning on July 1, 2005, and extending through June 30, 2007.
2117 | 7-29-05 | ONEOK Energy Services Company, L.P. 05-56-NG | 300 Bcf |  | Import and export a combined total of natural gas, including LNG from and to Canada and Mexico, and import LNG from various other international sources, beginning August 1, 2005, and extending through July 31, 2007.
1914-A | 7-29-05 | Ontario Energy Savings Corp. 03-70-NG |  |  | Vacate blanket import and export authority
1939-A | 7-29-05 | Excelerate Energy L.P. 04-04-LNG |  |  | Vacate blanket import LNG authority.
2110 | 7-29-05 | Calpine Energy Services, L.P. 05-42-NG |  |  | Errata: Term of the authority inadvertently stated as July 1, 2005, and extending through June 30, 2007. Corrected term to state “July 1, 2004, and extending through June 30, 2006.”

[FR Doc. 05-16557 Filed 8-19-05; 8:45 am]

BILLING CODE 6450-01-P